GENERAL SERVICES ADMINISTRATION

[Notice-CPL 2014-01; Docket No. 2104-01; Sequence 33]

The General Services Administration's Labor Management Relations Council (GLMRC)

AGENCY: Office of Human Resources Management, U.S. General Services Administration (GSA).

ACTION: Notice.

SUMMARY: The Administrator of U.S. General Services Administration has determined that the establishment of the GSA Labor Management Relations Council (GLMRC), a Federal Advisory Committee is necessary and in the public's interest. A charter for the GLMRC has been prepared and will be filed no earlier than 15 days following the publication of this notice. In addition, this notice establishes criteria and procedures for the nomination of GLMRC members.

DATES: Effective: October 29, 2014.

FOR FURTHER INFORMATION CONTACT: Ms. Temple L. Wilson, Designated Federal Officer, General Services Administration, Labor Management Relations Council, Administration, 1800 F Street NW., Washington, DC 20405, email glmrc@gsa.gov.

SUPPLEMENTARY INFORMATION: Background & Authority: The GSA Office of Human Resources Management, Office of Human Resource Services provides comprehensive human capital management solutions in such areas as staffing, labor relations, training, performance management and organizational development.

SUPPLEMENTARY INFORMATION: This notice advises of the establishment of the GLMRC in compliance with Executive Order 13522, and is published in accordance with the provisions of the Federal Advisory Committee Act (Pub L. 92-463).

The purpose of the GLMRC is to promote collaboration between managers and employees, through their exclusive representatives, for continued delivery of the highest quality services to the American taxpayer. The GLMRC, serving as a complement to the existing collective bargaining process, will provide a non-adversarial forum for management and employees' exclusive representatives to discuss workplace challenges and problems and endeavor to develop solutions jointly. The GLMRC will seek to provide advice that allows employees through their exclusive representatives to have pre-decisional involvement (PDI) in all workplace matters to the fullest extent practicable and by making a good-faith attempt to resolve concerns related to any proposed changes in conditions of employment, including those involving the subjects set forth in 5 U.S.C. 7106(b)(1). The GLMRC will evaluate and document changes in employee satisfaction, labor-management relations climate, and organizational performance. The GLMRC is a non-discretionary FACA committee. The functions of the GLMRC are advisory only.

An individual who is a Federally-registered lobbyist in their individual capacity may not serve on the GLMRC. GLMRC members will not receive compensation. Travel reimbursements are permitted. The meetings are open to public observers, unless prior notice has been provided for a closed meeting.

Nominations for Advisory Committee Appointment: There is no prescribed format for nominations. Individuals may nominate themselves or other individuals. A nomination package should include the following information for each nominee: (1) A letter of nomination stating the name, affiliation, and contact information for the nominee, membership capacity he/she will serve, nominee's field(s) of expertise, description of their interest, and qualifications (2) a complete professional biography or resume of the nominee; and (3) the name, return address, email address, and daytime telephone number at which the nominator can be contacted. GSA will consider nominations of all qualified individuals, to ensure that the GLMRC includes the areas of labor management subject matter expertise needed. Potential candidates may be asked to provide detailed information concerning financial interests that might be affected by recommendations of the GLMRC to permit evaluation of possible sources of conflicts of interest. The nomination period for interested candidates will close 30 days after publication of this notice. All nominations should be submitted in sufficient time to be received by 5:00 p.m. Eastern Standard Time on the closing date and be addressed to email address: glmrc@gsa.gov or by mail to:

General Services Administration, Office of Human Resource Management, 1800 F Street NW., Washington, DC 20405.

Dated: October 23, 2014.
Susan Scheider,
Director, Labor Relations.

[FR Doc. 2014-25719 Filed 10-28-14; 8:45 am]

BILLING CODE 6820-34-P